DEPARTMENT OF TRANSPORTATION

Maritime Administration

[Docket Number MARAD-2019-0011]

Deepwater Port License Application: SPOT Terminal Services LLC—Final Environmental Impact Review

AGENCY: Maritime Administration, Department of Transportation

ACTION: Notice of availability; notice of final hearing; request for comments.

SUMMARY: The Maritime Administration (MARAD) and the U.S. Coast Guard (USCG) announce the availability of the Final Environmental Impact Statement (FEIS) for the SPOT Terminal Services LLC (SPOT) deepwater port license application for the export of crude oil from the United States to nations abroad. The SPOT deepwater port license application describes a proposed project that would be located approximately 27.2 to 30.8 nautical miles off the coast of Brazoria County, Texas. Publication of this notice begins a 45-day comment period, requests public participation in the final environmental impact review process, provides information on how to participate in the final environmental impact review process, and announces the availability of an informational website and a virtual Final Hearing that will be held via Zoom. Registration information is provided in the Virtual Final Hearing and Informational website section of this notice. A Notice of Availability of the Final General Conformity Determination is being published simultaneously with this announcement under a separate notice.

DATES: Comments on the FEIS must be received on or before 45 days from the date of publication of this Federal Register Notice. MARAD and USCG will hold one virtual public Final Hearing in connection with the SPOT FEIS. This Final Hearing will be held via Zoom on August 23, 2022, from 6:00 p.m. to 8:00 p.m. Central Daylight Time (CDT). The Final Hearing will end no earlier than 8:00 p.m. CDT, but it may end later than the stated time, depending on the number of persons who wish to comment on the record. Anyone interested in attending the virtual public meeting or speaking during the virtual public meeting must register. Additionally, materials submitted in response to this request for comments on the FEIS must be submitted to the www.regulations.gov website or the Federal Docket Management Facility as detailed in the ADDRESSES section below by the end of the comment period.

ADDRESSES: You may submit comments identified by DOT Docket Number MARAD-2019-0011 by any one of the following methods:

• Federal eRulemaking Portal: Go to http://www.regulations.gov, search MARAD-2019-0011 and follow the instructions for submitting comments.

• Mail or Hand Delivery: The Docket Management Facility is in the West Building, Ground Floor of the U.S. Department of Transportation. The Docket Management Facility location address is U.S. Department of Transportation, MARAD-2019-0011, 1200 New Jersey Avenue SE, West Building, Room W12-140, Washington, DC 20590. Due to flexible work schedules in response to Covid 19, call 202-493-0402 to determine facility hours prior to hand delivery.

Note: If you mail or hand-deliver your comments, we recommend that you include your name and a mailing address, an email address, and/or a telephone number on a cover page so that we can contact you if we have questions regarding your submission.

Instructions: All submissions received must include the agency name and specific docket number. All comments received will be posted without change to the docket at www.regulations.gov, including any personal information provided. For detailed instructions on submitting comments, see the section entitled Public Participation.

FOR FURTHER INFORMATION CONTACT: MARAD via email at SPOT_EIS@dot.gov; and the USCG via email at DeepwaterPorts@uscg.mil. Include MARAD-2019-0011 in the subject line of the message. For written comments and other material submissions, please follow the directions under ADDRESSES above, and do not submit written comments or other materials to the email addresses in this section. Improperly submitted comments interfere with MARAD's ability to help others seeking assistance with comment submission or public meeting attendance. Improperly submitted comments may be rejected from consideration.

SUPPLEMENTARY INFORMATION:

Prior Federal Action

A Notice of Application that summarized the SPOT Deepwater Port License Application was published in the Federal Register on March 4, 2019 (84 FR 7413). A Notice of Intent to Prepare an Environmental Impact Statement (EIS) and Notice of Public Scoping Meeting was published in the Federal Register on March 7, 2019 (84 FR 8401). A Notice of Availability of the Draft Environmental Impact Statement (DEIS) and Notice of Public Meeting was published in the Federal Register on February 7, 2020 (85 FR 7381). A Notice of Availability of the Draft General Conformity Determination was published in the Federal Register on October 8, 2021 (86 FR 56349). A Notice of Availability of the Supplemental Draft Environmental Impact Statement (SDEIS) and Notice of Public Meeting was published in the Federal Register on October 29, 2021 (86 FR 60093).

Request for Comments

We request public comments or other relevant information related to the FEIS for the proposed SPOT deepwater port. These comments will inform MARAD's Record of Decision. We encourage you to review the information on the website and attend the virtual Final Hearing. Also, you may submit comments electronically. It is preferred that comments be submitted electronically. Please see the information in the ADDRESSES section above on how to properly submit comments. All comments submitted to the docket via www.regulations.gov or delivered to the Federal Docket Management Facility will be posted, without change, to the Federal Docket Management Facility website (http://www.regulations.gov) and will include any personal information you provide. Therefore, submitting such information makes it public. You may view docket submissions at the DOT Docket Management Facility or electronically at the www.regulations.gov website.

Virtual Final Hearing and Informational Website

You are invited to learn about the proposed SPOT deepwater port via the informational website (www.SPOTNEPAProcess.com). You are also invited to attend the virtual Final Hearing and encouraged to provide comments on the proposed action and the environmental impact analysis contained in the FEIS for the proposed SPOT deepwater port. Speakers must register for the virtual Final Hearing via the informational website. Speakers may also register via phone number (888) 731-5089. To register for the final hearing on August 23, please leave your name along with the correct spelling and phone number after the tone. When registering, please indicate if you would like the opportunity to provide a live comment during the meeting or if you are participating to listen only. Speakers will be recognized in the following order during the Final Hearing: elected officials, public agency representatives, and then individuals or groups in the order in which they registered. In order to accommodate all speakers, speaker time may be limited, meeting hours may be extended, or both. Speakers' transcribed remarks will be included in the public docket. You may also submit written material for inclusion in the public docket. Written material must include the author's name. We ask attendees to respect the meeting procedures in order to ensure a constructive information-gathering session. The presiding officer will use his/her discretion to conduct the meeting in an orderly manner.

The Final Hearing will be conducted in English; however, translation services will be provided in Spanish and Vietnamese. Final Hearing attendees who require special assistance, such as translation services or other reasonable accommodation, please notify MARAD and USCG (see FOR FURTHER INFORMATION CONTACT) at least five business days in advance. Please include contact information as well as information about specific needs.

Background

On January 31, 2019, MARAD and USCG received a license application from SPOT for a license to own, construct, and operate a deepwater port for the export of crude oil. The proposed deepwater port would be located in the U.S. Exclusive Economic Zone, approximately 27.2 to 30.8 nautical miles off the coast of Brazoria County, Texas. Texas was designated as the Adjacent Coastal State (ACS) for the SPOT license application.

The Federal agencies involved held a public scoping meeting in connection with the evaluation of the SPOT license application. The public scoping meeting was held in Lake Jackson, Texas, on March 20, 2019. The transcript of the scoping meeting is included on the public docket at https://www.regulations.gov/document/MARAD-2019-0011-0019. The Federal agencies also held a Draft EIS public comment meeting to receive comments on the Draft EIS. The public comment meeting was held in Lake Jackson, Texas on February 26, 2020. A second 30-day public comment period due to COVID began on May 1, 2020 and ended on May 31, 2020. The transcripts of the DEIS public comment meetings are also included on the public docket at https://www.regulations.gov/document/MARAD-2019-0011-1192.

The Federal agencies also held a Supplemental DEIS public comment meeting to receive comments on the SDEIS. The public meeting was held virtually on November 16, 2021. The transcripts of the SDEIS public comment meetings are also included on the public docket at https://www.regulations.gov/docket/MARAD-2019-0011. The Federal agencies also opened a 30-day public comment period for the Draft General Conformity Determination that began on October 8, 2021, and ended on November 7, 2021.

The purpose of the FEIS is to analyze the direct, indirect, and cumulative environmental impacts of the proposed action, and to identify and analyze the environmental impacts of a reasonable range of alternatives. The FEIS is currently available for public review and comment at the Federal docket website: www.regulations.gov under docket number MARAD-2019-0011. As stated previously, a Notice of Availability of the Final General Conformity Determination is being simultaneously published with this announcement.

Summary of the License Application

SPOT is proposing to own, construct, and operate a deepwater port terminal in the Gulf of Mexico to export domestically produced crude oil. Use of the deepwater port would include the loading of various grades of crude oil at flow rates of up to 85,000 barrels per hour (bph). The SPOT deepwater port would allow for up to two Very Large Crude Carriers (VLCCs) or other crude oil carriers to moor at single point mooring (SPM) buoys and connect with the deepwater port via floating connecting crude oil hoses and a floating vapor recovery hose. The maximum frequency of loading VLCCs or other crude oil carriers would be 2 million barrels per day, 365 days per year.

The overall project would consist of offshore and marine components as well as onshore components, as described below.

The SPOT deepwater port offshore and marine components would consist of the following:

• One fixed offshore platform with eight piles in Galveston Area Outer Continental Shelf lease block 463, approximately 27.2 to 30.8 nautical miles off the coast of Brazoria County, Texas, in a water depth of approximately 115 feet. The fixed offshore platform would be comprised of four decks, including: a sump deck with shut-down valves and open-drain sump; a cellar deck with pig launchers and receivers, generators, and three vapor combustion units; a main deck with a lease automatic custody transfer (LACT) unit, oil displacement prover loop, living quarters, electrical and instrument building, and other ancillary equipment; and a laydown deck with a crane laydown area.

• Two single point mooring buoys (SPMs), each having: two (2) 24-inch inside diameter crude oil underbuoy hoses interconnecting with the crude oil pipeline end manifold (PLEM); two 24-inch inside diameter floating crude oil hoses connecting the moored VLCC or other crude oil carrier for loading to the SPM buoy; one 24-inch inside diameter vapor recovery underbuoy hose interconnecting with the vapor recovery PLEM; and one 24-inch inside diameter floating vapor recovery hose to connect to the moored VLCC or other crude oil carrier for loading. The floating hoses would be approximately 800 feet in length and rated for 300 psig (21-bar). Each floating hose would contain an additional 200 feet of 16-inch “tail hose” that is designed to be lifted and robust enough for hanging over the edge railing of the VLCC or other crude oil vessels. The underbuoy hoses would be approximately 160 feet in length and rated for 300 psig (21-bar).

• Four PLEMs would provide the interconnection between the pipelines and the SPM buoys. Each SPM buoy would have two (2) PLEMs—one PLEM for crude oil and one PLEM for vapor recovery. Each crude oil loading PLEM would be supplied with crude oil by two 30-inch outside diameter pipelines, each approximately 0.66 nautical miles in length. Each vapor recovery PLEM would route recovered vapor from the VLCC or other crude oil carrier through the PLEM to the three vapor combustion units located on the platform topside via two 16-inch outside diameter vapor recovery pipelines, each approximately 0.66 nautical miles in length.

• Two co-located 36-inch outside diameter, 40.8-nautical mile-long crude oil pipelines would be constructed from the shoreline crossing in Brazoria County, Texas, to the SPOT deepwater port for crude oil delivery. These pipelines, in conjunction with 12.2 statute miles of new-build onshore pipelines (described below), would connect the onshore crude oil storage facility and pumping station (Oyster Creek Terminal) to the offshore SPOT deepwater port. The crude oil would be metered at the offshore platform. Pipelines would be bi-directional for the purposes of maintenance, pigging, changing crude oil grades, or evacuating the pipeline with water.

The SPOT deepwater port onshore storage and supply components would consist of the following:

• New equipment and piping at the existing Enterprise Crude Houston (ECHO) Terminal to provide interconnectivity with the crude oil supply network for the SPOT Project. This would include the installation of four booster pumps, one measurement skid, and four crude oil pumps.

• An interconnection between the existing Rancho II pipeline and the proposed ECHO to Oyster Creek pipeline consisting of a physical connection as well as ultrasonic measurement capability for pipeline volumetric balancing purposes.

• The proposed Oyster Creek Terminal located in Brazoria County, Texas, on approximately 140 acres of land consisting of seven aboveground storage tanks, each with a total storage capacity of 685,000 barrels (600,000 barrels working storage capacity), for a total onshore storage capacity of approximately 4.8 million barrels (4.2 million barrels working storage) of crude oil. The Oyster Creek Terminal also would include: Six (6) electric-driven mainline crude oil pumps; four electric-driven booster crude oil pumps (two per pipeline), working in parallel to move crude oil from the storage tanks through the measurement skids; two crude oil pipeline pig launchers/receivers; one crude oil pipeline pig receiver; two measurement skids for measuring incoming crude oil—one skid located at the incoming pipeline from the existing ECHO Terminal, and one skid installed and reserved for a future pipeline connection; two measurement skids for measuring departing crude oil; three vapor combustion units—two permanent and one portable; and ancillary facilities to include electrical substation, office, and warehouse buildings.

• Three onshore crude oil pipelines would be constructed onshore to support the SPOT deepwater port. These would include: one 50.1 statute mile long 36-inch crude oil pipeline from the existing ECHO Terminal to the Oyster Creek Terminal. This pipeline would be located in Harris County and Brazoria County, Texas; two 12.2 statute mile long, co-located 36-inch crude oil export pipelines from the Oyster Creek Terminal to the shore crossing where these would join the above-described subsea pipelines supplying the SPOT deepwater port. These pipelines would be located in Brazoria County, Texas.

As previously stated, the purpose of this notice is to announce that the FEIS is currently available for public review and a 45-day public comment period. Comments can be submitted through the Federal docket website: www.regulations.gov under docket number MARAD-2019-0011.

Public Participation Instructions

How long do I have to submit comments?

We are providing a 45-day comment period.

How do I prepare and submit comments?

To ensure that your comments are correctly filed in the Docket, please include the docket number shown at the beginning of this document in your comments.

If you are submitting comments electronically as a PDF (Adobe) File, MARAD and USCG ask that the documents be submitted using the Optical Character Recognition (OCR) process, thus allowing the agencies to search and copy certain portions of your submissions. Comments may be submitted to the docket electronically at http://www.regulations.gov. Search using the MARAD docket number in this notice and follow the online instructions for submitting comments.

You may also submit two copies of your comments, including the attachments, to Docket Management at the address given above under ADDRESSES.

Please note that pursuant to the Data Quality Act, for substantive data to be relied upon and used by the agency, it must meet the information quality standards set forth in the OMB and DOT Data Quality Act guidelines. Accordingly, we encourage you to consult the guidelines in preparing your comments. OMB's guidelines may be accessed at https://www.whitehouse.gov/omb/information-regulatory-affairs/information-policy/. DOT's guidelines may be accessed at https://www.bts.gov/statistical-policy and also at https://www.transportation.gov/dot-information-dissemination-quality-guidelines.

I provided MARAD and USCG comments on the SPOT FEIS, orally or in writing, in another forum. May I provide comments in response to this notice as well?

Yes, MARAD and USCG encourage any member of the public to submit relevant comments for the docket, including input that has previously been communicated to the agencies.

How can I be sure that my comments were received?

If you wish Docket Management to notify you upon its receipt of your comments, enclose a self-addressed, stamped postcard in the envelope containing your comments. Upon receiving your comments, Docket Management will return the postcard by mail.

Will the agency consider late comments?

MARAD and USCG will consider all substantive comments that Docket Management receives before the close of business on the comment closing date indicated above under DATES.

How can I read the comments submitted by other people?

You may read the comments received by Docket Management at the address given above under ADDRESSES. The hours of the Docket Management Unit are indicated above in the same location. You may also see the comments on the internet. To read the comments on the internet, go to http://www.regulations.gov. Follow the online instructions for accessing the dockets. Please note that even after the comment closing date, MARAD will continue to file relevant information in the Docket as it becomes available. Accordingly, we recommend that you periodically check the Docket for new material.

Privacy Act

Anyone can search the electronic form of all comments received into any of our dockets by the name of the individual submitting the comment (or signing the comment if submitted on behalf of an association, business, labor union, etc.). For information on DOT's compliance with the Privacy Act, please visit https://www.transportation.gov/privacy.

(Authority: 49 CFR 1.93)

By order of the Maritime Administrator.
T. Mitchell Hudson, Jr.,
Secretary, Maritime Administration.

[FR Doc. 2022-15965 Filed 7-28-22; 8:45 am]

BILLING CODE 4910-81-P